DEPARTMENT OF ENERGY

Federal Energy Regulatory Commission

[Docket No. CP08-466-000]

El Paso Natural Gas Company; Notice of Request Under Blanket Authorization

September 11, 2008.

Take notice that on September 2, 2008, El Paso Natural Gas Company (EPNG), Post Office Box 1087, Colorado Springs, Colorado 80944, filed in Docket No.

CP08-466-000, a prior notice request pursuant to sections 157.205, 157.208, and 157.216 of the Federal Energy Regulatory Commission's regulations under the Natural Gas Act for authorization to decrease the Maximum Allowable Operating Pressures (MAOP) of the Lakes Meter Station Line (Line No. 20108) and the Chandler Line (Line No. 2029) and to thereafter operate the lines at the lower MAOP, and abandon capacity on Line No. 2029, located in Maricopa County, Arizona, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Specifically, EPNG proposes to decrease the existing MAOP of Line No. 20108 from 715 psig to 266 psig and Line No. 2029 from 650 psig to 430 psig. EPNG also proposes to decrease the existing design capacity on Line No. 2029 from 34 MMcf/d to 27 MMcf/d. EPNG states that the proposed MAOP decrease will not impair EPNG's ability to meet its current contractual obligations on the two pipelines.

Any questions regarding the application should be directed to Richard Derryberry, Director, Regulatory Affairs Department, El Paso Natural Gas Company, Post Office Box 1087, Colorado Springs, Colorado 80944, or call (719) 520-3782.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the Natural Gas Act (NGA) (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Kimberly D. Bose,
Secretary.

[FR Doc. E8-21888 Filed 9-18-08; 8:45 am]

BILLING CODE 6717-01-P